DEPARTMENT OF HEALTH AND HUMAN SERVICES

Food and Drug Administration

Advisory Committee for Pharmaceutical Science and Clinical Pharmacology (formerly called Advisory Committee for Pharmaceutical Science); Notice of Meeting; Cancellation

AGENCY: Food and Drug Administration, HHS.

ACTION: Notice.

SUMMARY: The meeting of the Advisory Committee for Pharmaceutical Science and Clinical Pharmacology scheduled for May 1 and 2, 2007, is cancelled. This meeting was announced in the Federal Register of March 16, 2007 (72 FR 12621).

FOR FURTHER INFORMATION CONTACT: Victoria Ferretti-Aceto, Center for Drug Evaluation and Research (HFD-21), Food and Drug Administration, 5600 Fishers Lane (for express delivery, 5630 Fishers Lane, rm. 1093), Rockville, MD 20857, 301-827-7001, FAX: 301-827-6776, e-mail: Victoria.ferrettiaceto@fda.hhs.gov, or FDA Advisory Committee Information Line, 1-800-741-8138 (301-443-0572 in the Washington, DC area), code 3014512539. Please call the Information Line for up-to-date information on this meeting.

Dated: March 29, 2007.
Randall W. Lutter,
Associate Commissioner for Policy and Planning.

[FR Doc. E7-6283 Filed 4-4-07; 8:45 am]

BILLING CODE 4160-01-S